DEPARTMENT OF THE INTERIOR

National Park Service

Off-Road Vehicle Management Plan, Environmental Impact Statement, Glen Canyon National Recreation Area, Arizona and Utah

AGENCY: National Park Service, Department of the Interior.

ACTION: Notice of intent to prepare an Environmental Impact Statement for an Off-Road Vehicle Management Plan, Glen Canyon National Recreation Area, Arizona and Utah.

SUMMARY: Pursuant to the National Environmental Policy Act of 1969, 42 U.S.C. 4332(2)(C), the National Park Service is preparing an Environmental Impact Statement (EIS) for an Off-Road Vehicle (ORV) Management Plan for Glen Canyon National Recreation Area, Arizona and Utah. This effort will result in an ORV Management Plan/EIS to guide the management of ORV use at Glen Canyon National Recreation Area (NRA). The ORV Management Plan/EIS may also form the basis for a special regulation pursuant to 36 CFR 4.10 to regulate ORV use at Glen Canyon NRA.

The ORV Management Plan/EIS would address three spheres of ORV use at Glen Canyon: (1) At the Lone Rock Beach area; (2) at 14 designated accessible shoreline areas; and (3) on 388 miles of park roads. The ORV Management Plan/EIS will assess potential environmental impacts associated with a range of reasonable alternatives for managing ORV impacts on park resources such as threatened and endangered species, soils, vegetation, wildlife, cultural resources, and other appropriate topics. Socioeconomic impacts and effects on visitor experience and public safety will also be analyzed.

DATES: To determine significant issues related to ORV management at Glen Canyon NRA, and to identify a range of alternatives for ORV management, the National Park Service will hold public scoping workshops in Page, Arizona, Escalante, Utah, and Monticello, Utah. Dates and times of these meetings will be announced publicly. The Park Service will accept comments from the public through October 1, 2007.

ADDRESSES: Information will be available for public review and comment online at http://parkplanning.nps.gov, and at Glen Canyon NRA headquarters, 691 Scenic View Drive, Page, Arizona. Phone number (928) 608-6200.

FOR FURTHER INFORMATION CONTACT: Kevin Schneider, Management Assistant, Glen Canyon NRA, 691 Scenic View Drive, Page, Arizona. Phone number (928) 608-6208.

SUPPLEMENTARY INFORMATION: A scoping brochure has been prepared that discusses the purpose and need for action and details the issues identified to date. Copies of the scoping brochure may be obtained from Glen Canyon NRA, 691 Scenic View Drive, Page, Arizona. The phone number is (928) 608-6200. You may also obtain the scoping brochure or via the Internet at http://parkplanning.nps.gov.

If you wish to comment on the scoping brochure or on any other issues associated with the plan, you may submit your comments by any one of several methods. You may mail comments to ORV Management Plan/EIS, Glen Canyon NRA, PO Box 1507, Page, Arizona 86040. You may also comment via the Internet at http://parkplanning.nps.gov. If you do not receive a confirmation from the system that we have received your Internet message, contact us directly at phone number (928) 608-6200. Finally, you may hand-deliver comments to Glen Canyon NRA, 691 Scenic View Drive, Page, Arizona. Before including your address, phone number, e-mail address, or other personal identifying information in your comment, you should be aware that your entire comment—including your personal identifying information—may be made publicly available at any time.

While you can ask us in your comment to withhold your personal identifying information from public review, we cannot guarantee that we will be able to do so.

Dated: August 6, 2007.
Michael D. Snyder,
Director, Intermountain Region, National Park Service.

[FR Doc. 07-4273 Filed 8-30-07; 8:45 am]

BILLING CODE 4312-EF-M